DEPARTMENT OF ENERGY

Extension of the Public Comment Period for the Draft Uranium Leasing Program Programmatic Environmental Impact Statement

AGENCY: Department of Energy.

ACTION: Extension of the public comment period.

SUMMARY: The U.S. Department of Energy (DOE) is extending the public comment period for the Draft Uranium Leasing Program Programmatic Environmental Impact Statement (Draft ULP PEIS, DOE/EIS-0472D), made available for public comment on March 15, 2013 (78 FR 16500). The public comment period for the Draft ULP PEIS was to complete on May 16, 2013, and has now been extended to close on May 31, 2013. This extension is being made in response to a public request for additional review time.

DATES: The public comment period will close on May 31, 2013. Comments received after the end of the comment period will be considered to the extent practicable.

ADDRESSES: The Draft ULP PEIS is available for review on the ULP PEIS Web site at http://ulpeis.anl.gov/ or the DOE NEPA Web site at http://www.energy.gov/nepa. Please direct written comments on the Draft ULP PEIS to Mr. Raymond Plieness, ULP PEIS Document Manager, Office of Legacy Management, U.S. Department of Energy, 11025 Dover Street, Suite 1000, Westminster, CO 80021. Comments may also be submitted via email to ulpeis@anl.gov or via the internet at http://ulpeis.anl.gov/. DOE will give equal weight to written, email, and oral comments. Questions regarding the ULP PEIS process, requests to be placed on the ULP PEIS mailing list, and requests for copies of the document should be directed to Mr. Plieness.

For general information about the NEPA process, please contact: Ms. Carol M. Borgstrom, Director, Office of NEPA Policy and Compliance, GC-54, U.S. Department of Energy, 1000 Independence Avenue SW., Washington, DC 20585, Telephone: (202) 586-4600, leave a message at 1-800-472-2756, or send an email to Ask NEPA@hq.doe.gov.

SUPPLEMENTARY INFORMATION: DOE has scheduled four public hearings on the Draft ULP PEIS at the following locations, dates, and times:

• Grand Junction, Colorado, April 22, 2013 from 6:30 to 9 p.m. at the Colorado Mesa University, University Center Ballroom, 1455 N. 12th St., Grand Junction, CO.

• Montrose, Colorado, April 23, 2013 from 6:30 to 9 p.m. at the Johnson Elementary School, 13820 6700 Road, Montrose, CO.

• Telluride, Colorado, April 24, 2013 from 6:30 to 9 p.m. at the Telluride Middle/High School, 725 W Colorado Avenue, Telluride, CO.

• Naturita, Colorado, April 25, 2013 from 6:30 to 9 p.m. at the Naturita School, 141 W Main St., Naturita, CO.

The public hearings will begin with an open-house format with subject matter experts from DOE available to answer questions on the ULP and Draft ULP PEIS. Individuals who would like to present comments verbally at these hearings should register upon arrival at the hearing or register via the internet at http://ulpeis.anl.gov/ before the public hearing dates. Members of the general public are invited to attend the hearings at their convenience any time during hearing hours and submit their comments in writing, or in person to a court reporter.

Issued in Washington, DC, on April 17, 2013.
David Geiser,
Director, DOE-Office of Legacy Management.

[FR Doc. 2013-09509 Filed 4-22-13; 8:45 am]

BILLING CODE 6450-01-P